DEPARTMENT OF ENERGY

Federal Energy Regulatory Commission

[Docket No. EL12-15-000]

Shiloh III Wind Project, LLC; Notice of Petition for Declaratory Order

Take notice that on December 15, 2011, pursuant to section 201 of the Federal Power Act, 16 U.S.C. 824, Shiloh III Wind Project, LLC filed a Petition for Declaratory Order, requesting that the Federal Energy Regulatory Commission (Commission) disclaim jurisdiction over the Owner-Lessor in a structure lease financing transaction for wind powered generation and related interconnection facilities located in Solano County, California, as set forth in the above-referenced proceeding.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on January 20, 2012.

Dated: December 21, 2011.
Kimberly D. Bose,
Secretary.

[FR Doc. 2011-33318 Filed 12-28-11; 8:45 am]

BILLING CODE 6717-01-P